DEPARTMENT OF AGRICULTURE

Office of the Secretary

7 CFR Subtitles A and B

9 CFR Chapters I, II, and III

Completion of Interim Rules

AGENCY: Office of the Secretary, USDA.

ACTION: Notification.

SUMMARY: The United States Department of Agriculture is announcing the completion of certain interim rules that published in the Federal Register more than 3 years ago. USDA is taking this action because the published interim rules have been fully implemented and no further rulemaking publication is required.

DATES: The interim rules are completed as of September 10, 2019.

FOR FURTHER INFORMATION CONTACT: Michael Poe, Telephone Number: (202) 720-3323.

SUPPLEMENTARY INFORMATION:

Background

To promote transparency in regulatory planning, the Administration, beginning with the Spring 2017 Unified Agenda of Regulatory and Deregulatory Actions, published for the first time an “inactive” list of agency regulatory actions that were under review but not included in the Unified Agenda of Regulatory and Deregulatory Actions. Such “inactive” actions allow agencies to take additional time to review a regulatory or deregulatory action and to preserve the regulatory identification number (RIN) and title for possible future use. After further review, and to clean out a backlog of older, obsolete RINs, USDA is taking this action to reduce its regulatory backlog and focus its resources on higher priority actions. The Department's actions are part of an overall regulatory reform strategy to reduce regulatory burden on the public and to ensure that future Unified Agendas of Regulatory and Deregulatory Actions provided the public accurate information about rulemakings the Department intends to undertake. USDA reviewed its pending regulatory actions listed as “inactive.” This review focused on interim rules that published in the Federal Register more than 3 years ago, and for which no final rule has been issued. The agency identified 20 such regulatory actions.

Although not required to do so by the Administrative Procedure Act or by regulations of the Office of the Federal Register, the agency believes the public interest is best served by announcing in the Federal Register that it has fully implemented these 20 items. Therefore, for the reasons set forth above, USDA announces that it has fully completed the 20 rulemaking initiatives which were published in the Federal Register on the dates indicated in the table below and that no further rulemaking publication is required.

Agency | RIN | Title | Published action | Date | FR cite
OSEC | 0503-AA49 | Agricultural Career and Employment Grants Program | IFR | 11/8/2011 | 76 FR 69114
FAS | 0551-AA80 | Trade Adjustment Assistance for Farmers | IFR | 3/1/2010 | 75 FR 9087
NRCS | 0578-AA45 | Environmental Quality Incentives Program | IFR | 1/15/2009 | 74 FR 2293
NRCS | 0578-AA47 | Wetlands Reserve Program | IFR | 1/15/2009 | 74 FR 2317
FSA | 0560-AH43 | Emergency Conservation Program | IFR | 5/26/2006 | 71 FR 30263
FSA | 0560-AH66 | Interest Rates on Farm Service Agency Farm Loan Programs Guaranteed Loans | IFR | 3/4/2013 | 78 FR 13999
FSA | 0560-AH89 | Emergency Forest Restoration Program | IFR | 11/17/2010 | 75 FR 70083
FSA | 0560-AH98 | Voluntary Public Access and Habitat Incentive Program | IFR | 7/8/2010 | 75 FR 39135
FSA | 0560-AI06 | Noninsured Disaster Assistance Program | IFR | 4/9/2013 | 78 FR 21015
FSA | 0560-AI11 | Crop Assistance Program | IFR | 10/25/2010 | 75 FR 65423
FSA | 0560-AI20 | Noninsured Crop Disaster Assistance Program | IFR | 12/15/2014 | 79 FR 74562
FSA | 0560-AI25 | Farm Loan Programs, Entity Eligibility Changes | IFR | 10/8/2014 | 79 FR 60739
FSA | 0560-AI26 | Conservation Compliance | IFR | 4/24/2015 | 80 FR 22873
FSA | 0560-AI30 | Conservation Reserve Program | IFR | 7/16/2015 | 80 FR 41987
RBS | 0570-AA71 | Rural Microentrepreneur Assistance Program | IFR | 5/28/2010 | 75 FR 30114
RBS | 0570-AA74 | Re-Powering Assistance Payments to Eligible Biorefineries | IFR | 2/11/2011 | 76 FR 7916
RBS | 0570-AA80 | Rural Business Investment Program | IFR | 12/23/2011 | 76 FR 80217
RBS | 0570-AA92 | Rural Business Development Grant | IFR | 3/25/2015 | 80 FR 15665
RBS | 0570-AA94 | Strategic Economic and Community Development | IFR | 5/20/2015 | 80 FR 28807
FNS | 0584-AD60 | Direct Certification and Certification of Homeless, Migrant and Runaway Children | IFR | 4/25/2011 | 76 FR 22785

Dated: August 28, 2019.
Rebeckah Adcock,
Regulatory Reform Officer and Senior Adviser to the Secretary.

[FR Doc. 2019-19553 Filed 9-9-19; 8:45 am]

BILLING CODE 3410-90-P